DEPARTMENT OF THE TREASURY

Internal Revenue Service

Recruitment Notice for the Taxpayer Advocacy Panel; Correction

AGENCY: Internal Revenue Service (IRS), Treasury.

ACTION: Notice; Correction.

SUMMARY: The IRS published a document in the Federal Register of April 20, 2021, correcting a Recruitment Notice for their Taxpayer Advocacy Panel. The IRS has corrections for that document.

FOR FURTHER INFORMATION CONTACT: Lisa Billups at 214-413-6523 (not a toll-free call).

SUPPLEMENTARY INFORMATION:

Correction

In the Federal Register of April 20, 2021, in FR Doc. 2021-08030, on page 2061, in the first column, correct the SUMMARY caption to read:

SUMMARY: In the Federal Register notice that was originally published on April 20, 2021, (Volume 86, Number 74, Page 20611) the state of Montana was not listed. Montana is being added to the TAP recruitment list. All other details remain unchanged.

Dated: April 26, 2021.
Kevin Brown,
Acting Director, Taxpayer Advocacy Panel.

[FR Doc. 2021-09009 Filed 4-29-21; 8:45 am]

BILLING CODE 4830-01-P